DEPARTMENT OF COMMERCE

Foreign-Trade Zones Board

[S-112-2024]

Approval of Subzone Expansion; Consolidated Diesel Company; Whitakers, North Carolina

On July 1, 2024, the Executive Secretary of the Foreign-Trade Zones (FTZ) Board docketed an application submitted by the North Carolina Department of Transportation, grantee of FTZ 214, requesting an expansion of Subzone 214A subject to the existing activation limit of FTZ 214, on behalf of Consolidated Diesel Company, in Whitakers, North Carolina.

The application was processed in accordance with the FTZ Act and Regulations, including notice in the Federal Register inviting public comment (89 FR 55914, July 8, 2024; correction, 89 FR 60354, July 25, 2024). The FTZ staff examiner reviewed the application and determined that it meets the criteria for approval. Pursuant to the authority delegated to the FTZ Board Executive Secretary (15 CFR 400.36(f)), the application to expand Subzone 214A was approved on August 21, 2024, subject to the FTZ Act and the Board's regulations, including section 400.13, and further subject to FTZ 214's 2,000-acre activation limit.

Dated: August 21, 2024.
Elizabeth Whiteman,
Executive Secretary.

[FR Doc. 2024-19082 Filed 8-23-24; 8:45 am]

BILLING CODE 3510-DS-P